DEPARTMENT OF HEALTH AND HUMAN SERVICES

Centers for Disease Control and Prevention

[Request for Application (RFA) 05054]

Health Promotion and Non-Communicable Disease and Injury Prevention Initiatives in Latin America and the Caribbean; Notice of Intent To Fund Single Eligibility Award

A. Purpose

The Centers for Disease Control and Prevention (CDC) announces the intent to fund fiscal year (FY) 2005 funds for a cooperative agreement program to prevent non-communicable diseases, adverse reproductive outcomes, injuries, birth defects, developmental and physical disabilities and adverse consequences resulting from hereditary conditions in countries in the Latin American and Caribbean region. Through enhanced collaboration between the Pan American Health Organization (PAHO) and CDC, member countries can: (a) Promote a healthy, active lifestyle, disseminate information and provide expertise to prevent and control non-communicable diseases for which physical inactivity is a major risk factor, (including but not limited to obesity, diabetes and cardiovascular disease); (b) enhance, develop, implement, and evaluate community-based programs, including programs addressing cardiovascular health, health care and aging, and conduct behavioural risk factor surveillance and prevention research; (c) improve measurement, monitoring, and assessment of maternal and infant health, strengthen community-based maternal and perinatal health care systems, and improve and use surveillance systems to monitor and evaluate the quality of reproductive services; (d) strengthen their capacity to conduct surveillance, develop interventions and information technology tools, carry out access to care and economic impact studies, and share information related to diabetes prevention and control; (e) strengthen tobacco control through surveillance and evaluation, training, networking, and information exchange relative to policy approaches to implement smoke-free environments; (f) develop indicators and systems to monitor injuries and violence, conduct training and education, and to implement and evaluate comprehensive prevention strategies. The Catalog of Federal Domestic Assistance number for this program is 93.283.

B. Eligible Applicant

Assistance will be provided only to the Pan American Health Organization (PAHO) for this project. PAHO is the oldest international public health agency, with over 100 years of experience in working to improve health and living standards of the countries of the Americas. It serves as the specialized organization for health of the Inter-American System. It also serves as the Regional Office for the Americas of the World Health Organization (WHO) and enjoys international recognition as part of the UN system.

Since its creation in 1902, PAHO has worked to advance policies, plans and programs that improve health and human development. PAHO consists of thirty-eight Member States, and by encouraging collaboration among countries, PAHO aims to ensure that health promotion and non-communicable disease prevention strategies are incorporated both at the national and local level.

C. Funding

Approximately $989,900 is available in FY 2005 to fund this award. It is expected that the award will begin on or before July 29, 2005, and will be made for a 12-month budget period within a project period of up to 5 years. Funding estimates may change.

D. Where To Obtain Additional Information

For general comments or questions about this announcement, contact: Technical Information Management, CDC Procurement and Grants Office, 2920 Brandywine Road, Atlanta, GA 30341-4146. Telephone: 770-488-2700.

For programmatic questions about this program, contact: Angel Roca, National Center for Chronic Disease Prevention and Health Promotion, 4770 Buford Highway, NE., Atlanta, GA 30341. Telephone: 770-488-5647. E-mail: axr4@cdc.gov.

Dated: May 24, 2005.
Alan Kotch,
Acting Deputy Director, Procurement and Grants Office, Centers for Disease Control and Prevention.

[FR Doc. 05-10945 Filed 6-1-05; 8:45 am]

BILLING CODE 4163-18-U